DEPARTMENT OF TRANSPORTATION

Surface Transportation Board

[STB Finance Docket No. 34399 and STB Finance Docket No. 34398]

BG & CM Railroad, Inc.—Exemption From 49 U.S.C. Subtitle IV; and BG & CM Railroad, Inc.—Acquisition and Operation Exemption—Camas Prairie Railnet, Inc.

AGENCY: Surface Transportation Board, DOT.

ACTION: Notice of exemption.

SUMMARY: Under 49 U.S.C. 10502, the Board has: (1) Exempted BG & CM Railroad, Inc. (BG & CM) from the provisions of 49 U.S.C. Subtitle IV, subject to conditions, to allow reactivation of service on a rail line in Lewis, Nez Perce, and Idaho Counties, ID; (2) partially vacated a certificate of interim trail use (CITU) for 52 miles of this 66.8-mile line; and (3) granted a motion to dismiss a BG & CM notice of exemption to acquire and operate this line.

DATES: This exemption will be effective on October 27, 2003.

FOR FURTHER INFORMATION CONTACT: Joseph H. Dettmar (202) 565-1600. [Federal Information Relay Service (FIRS) for the hearing impaired: 1-800-877-8339.]

SUPPLEMENTARY INFORMATION: Additional information is contained in the Board's decision. To obtain a copy of the Board's decision, contact Da 2 Da Legal, 1925 K Street, NW., Room 405, Washington, DC 20006 (202-293-7776). Board decisions and notices are also available on our Web site at http://www.stb.dot.gov.

Decided: October 17, 2003.
By the Board, Chairman Nober.
Vernon A. Williams,
Secretary.

[FR Doc. 03-26740 Filed 10-22-03; 8:45 am]

BILLING CODE 4915-00-P